DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS (Secretary) is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2024, through December 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the table, or

b. “[S]ustained, or had significantly aggravated, any illness, disability, injury, or condition set forth in the Vaccine Injury Table the first symptom or manifestation of the onset or significant aggravation of which did not occur within the time period set forth in the table but which was caused by a vaccine” referred to in the table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Thomas J. Engels,
Administrator.

List of Petitions Filed

1. Ellery Spencer, Pearland, Texas, Court of Federal Claims No: 24-1968V

2. Deborah Sullivan-Davis, Lexington, Kentucky, Court of Federal Claims No: 24-1969V

3. Tammy Machin, Kellogg, Iowa, Court of Federal Claims No: 24-1970V

4. Tara Pobuda, Dresher, Pennsylvania, Court of Federal Claims No: 24-1973V

5. Karlee Sparkman, Louisville, Kentucky, Court of Federal Claims No: 24-1974V

6. Rebecka Bunch, St. Louis, Missouri, Court of Federal Claims No: 24-1975V

7. Nicholas Monaco, Lindenhurst, New York, Court of Federal Claims No: 24-1976V

8. Alyssa Myracle, Kissimmee, Florida, Court of Federal Claims No: 24-1977V

9. Danielle Brandt, Provo, Utah, Court of Federal Claims No: 24-1978V

10. Bronwen Shepherd, Middlebury, Connecticut, Court of Federal Claims No: 24-1979V

11. Leah Leynor, Charlotte, North Carolina, Court of Federal Claims No: 24-1983V

12. Kristine M. Schmicker, Sycamore, Illinois, Court of Federal Claims No: 24-1984V

13. Keith Sims, Waupun, Wisconsin, Court of Federal Claims No: 24-1985V

14. Heather Coffelt, Buffalo, Minnesota, Court of Federal Claims No: 24-1988V

15. Karen Petermann, Appleton, Wisconsin, Court of Federal Claims No: 24-1990V

16. Barbara Mounce, Lowell, Arkansas, Court of Federal Claims No: 24-1994V

17. Cameron McMahon, Newton, Iowa, Court of Federal Claims No: 24-1995V

18. Elizabeth Evans, Oklahoma City, Oklahoma, Court of Federal Claims No: 24-1996V

19. Kaylan Asper, Grand Rapids, Michigan, Court of Federal Claims No: 24-1997V

20. Susan Kosydor, Boston, Massachusetts, Court of Federal Claims No: 24-2000V

21. John Gualandi, Rome, New York, Court of Federal Claims No: 24-2001V

22. Ryan Stanford, Fort Mill, South Carolina, Court of Federal Claims No: 24-2002V

23. Juliann Bohne, Milwaukee, Wisconsin, Court of Federal Claims No: 24-2003V

24. Mitchell Wood, Reading, Pennsylvania, Court of Federal Claims No: 24-2004V

25. Haley Black on behalf of Estate of K.D.B., Deceased, Norman, Oklahoma, Court of Federal Claims No: 24-2009V

26. Mary Carafos, Rochester, New York, Court of Federal Claims No: 24-2011V

27. Linda Vaughan, Moab, Utah, Court of Federal Claims No: 24-2012V

28. Shelia Hairston, Eden, North Carolina, Court of Federal Claims No: 24-2014V

29. Peter Kowalkowski and Tany Kowalkowski on behalf of S.K., Oconomowoc, Wisconsin, Court of Federal Claims No: 24-2015V

30. Renee Walter, Olympia, Washington, Court of Federal Claims No: 24-2016V

31. Melinda Johnson, Chillicothe, Ohio, Court of Federal Claims No: 24-2017V

32. Betty Ballard, Southport, North Carolina, Court of Federal Claims No: 24-2019V

33. Andrew Stanley, Washington, District of Columbia, Court of Federal Claims No: 24-2021V

34. Aliaksandr Kavaliou, Brooklyn, New York, Court of Federal Claims No: 24-2022V

35. Lawrence Hubbard, Boston, Massachusetts, Court of Federal Claims No: 24-2024V

36. Krista M. Janzen, Bakersfield, California, Court of Federal Claims No: 24-2025V

37. Deborah Bean, Lakeville, Massachusetts, Court of Federal Claims No: 24-2026V

38. Larry Wheeler, Milo, Maine, Court of Federal Claims No: 24-2032V

39. LaDreda Lewis, La Mesa, California, Court of Federal Claims No: 24-2033V

40. Mark Wivel, Lancaster, Pennsylvania, Court of Federal Claims No: 24-2034V

41. Kathy Morris, Spring Hill, Tennessee, Court of Federal Claims No: 24-2036V

42. Jorge Moreno, Pawtucket, Rhode Island, Court of Federal Claims No: 24-2038V

43. Mary Gordon, Memphis, Tennessee, Court of Federal Claims No: 24-2039V

44. Mary M. Collins, Chapel Hill, North Carolina, Court of Federal Claims No: 24-2043V

45. Luiz Oliveira, Fort Lauderdale, Florida, Court of Federal Claims No: 24-2044V

46. Anna Rakityanskaya, Cambridge, Massachusetts, Court of Federal Claims No: 24-2045V

47. Katherine Lemkan, Ramsey, New Jersey, Court of Federal Claims No: 24-2047V

48. Vince Fazio, Allentown, Pennsylvania, Court of Federal Claims No: 24-2052V

49. Sulaiman Sulaimani, Centreville, Virginia, Court of Federal Claims No: 24-2058V

50. Mary Jo Russell, Omaha, Nebraska, Court of Federal Claims No: 24-2059V

51. Melissa Taylor, Kearney, Missouri, Court of Federal Claims No: 24-2063V

52. Jeffrey Blind, Sparta, Illinois, Court of Federal Claims No: 24-2065V

53. Gary Harkey, Bakersfield, California, Court of Federal Claims No: 24-2067V

54. Caroline Barajas on behalf of T. B., Broomfield, Colorado, Court of Federal Claims No: 24-2068V

55. Jeanine Guinee, Patchogue, New York, Court of Federal Claims No: 24-2070V

56. Brandie Steiner, Cedar Springs, Michigan, Court of Federal Claims No: 24-2071V

57. Karin McGee, Wallingford, Connecticut, Court of Federal Claims No: 24-2072V

58. Elizabeth Joan Harris, Boston, Massachusetts, Court of Federal Claims No: 24-2073V

59. Joanna Cowitt, Mount Kisco, New York, Court of Federal Claims No: 24-2075V

60. Katrina Brown, Eastpointe, Michigan, Court of Federal Claims No: 24-2077V

61. Timothy Evans, Waco, Texas, Court of Federal Claims No: 24-2078V

62. James Bland, III, Fort Sill, Oklahoma, Court of Federal Claims No: 24-2080V

63. Lynne Carroll, Phoenix, Arizona, Court of Federal Claims No: 24-2081V

64. Rebecca Jensen, Dresher, Pennsylvania, Court of Federal Claims No: 24-2082V

65. James Horvath, Downers Grove, Illinois, Court of Federal Claims No: 24-2084V

66. Nathan Mielke and Jamie Mielke on behalf of K. M., Boston, Massachusetts, Court of Federal Claims No: 24-2086V

67. Parker Sean Moore, Travelers Rest, South Carolina, Court of Federal Claims No: 24-2087V

68. Emilie Leach, Cincinnati, Ohio, Court of Federal Claims No: 24-2089V

69. John Narcross, Blue Ash, Ohio, Court of Federal Claims No: 24-2090V

70. Feriel Rezgui, Brooklyn, New York, Court of Federal Claims No: 24-2092V

71. Cindy Hillenberg, Farmington Hills, Michigan, Court of Federal Claims No: 24-2094V

72. Marianne Sanchez Torres, Boston, Massachusetts, Court of Federal Claims No: 24-2095V

73. Delaina Lindsey, Lynchburg, Tennessee, Court of Federal Claims No: 24-2097V

74. Kathleen Schmidtke, Sauk City, Wisconsin, Court of Federal Claims No: 24-2098V

75. Vaibhavi Gala, Boston, Massachusetts, Court of Federal Claims No: 24-2099V

76. Thomas Valenzuela, Boston, Massachusetts, Court of Federal Claims No: 24-2100V

77. Savion A. Jones, Black River Falls, Wisconsin, Court of Federal Claims No: 24-2101V

78. Scott Weitzman, Menlo Park, California, Court of Federal Claims No: 24-2109V

79. Devon Ramirez, Newburgh, Indiana, Court of Federal Claims No: 24-2113V

80. Alyssa Hubbard, Waco, Texas, Court of Federal Claims No: 24-2114V

81. Patricia Reza, Galveston, Texas, Court of Federal Claims No: 24-2115V

82. Mark VanHorn, Houston, Texas, Court of Federal Claims No: 24-2119V

83. Omaima Soub, De Pere, Wisconsin, Court of Federal Claims No: 24-2120V

84. Kristina Howard, Folsom, California, Court of Federal Claims No: 24-2121V

85. Gregory Gotlibowski, Roselle, Illinois, Court of Federal Claims No: 24-2126V

86. Cassandra Stewart, Warsaw, Indiana, Court of Federal Claims No: 24-2128V

87. Erica Kraus, Cleveland Heights, Ohio, Court of Federal Claims No: 24-2129V

88. Antonique Rivela, Staten Island, New York, Court of Federal Claims No: 24-2130V

89. Lauren Haskin, Knightdale, North Carolina, Court of Federal Claims No: 24-2131V

90. Deborah Lemaster, Washington, District of Columbia, Court of Federal Claims No: 24-2137V

91. Ebonie Johnson, Dyer, Indiana, Court of Federal Claims No: 24-2138V

92. Kanijha Demonie Johnson-McFarland, Maricopa, Arizona, Court of Federal Claims No: 24-2141V

93. Matthew Johnson, Oak Harbor, Ohio, Court of Federal Claims No: 24-2142V

94. Chaodong Li, Worcester, Massachusetts, Court of Federal Claims No: 24-2143V

95. Renita Carapella, Rochester, New York, Court of Federal Claims No: 24-2144V

96. Rickey Newnam, Dresher, Pennsylvania, Court of Federal Claims No: 24-2145V

97. Jennie Mua on behalf of C.M., Winder, Georgia, Court of Federal Claims No: 24-2146V

98. Christopher Brooks on behalf of E.B., Boston, Massachusetts, Court of Federal Claims No: 24-2147V

99. Nicholas Saloman, Dresher, Pennsylvania, Court of Federal Claims No: 24-2148V

100. Gerald Ferreira, Northridge, California, Court of Federal Claims No: 24-2149V

101. Angela Flint, Cumming, Georgia, Court of Federal Claims No: 24-2150V

102. Jennifer Sparks, Coopersburg, Pennsylvania, Court of Federal Claims No: 24-2151V

103. Jonathan Selman, Englewood, New Jersey, Court of Federal Claims No: 24-2152V

104. Karen Williams, Bartlett, Tennessee, Court of Federal Claims No: 24-2153V

105. Andrea Estell, Cincinnati, Ohio, Court of Federal Claims No: 24-2154V

106. Vanessa Villarreal, Pharr, Texas, Court of Federal Claims No: 24-2156V

[FR Doc. 2025-03650 Filed 3-6-25; 8:45 am]

BILLING CODE 4165-15-P